FARM CREDIT ADMINISTRATION

Farm Credit Administration Board; Sunshine Act; Regular Meeting

AGENCY: Farm Credit Administration.

SUMMARY: Notice is hereby given, pursuant to the Government in the Sunshine Act, of the regular meeting of the Farm Credit Administration Board (Board).

Dates and Time: The regular meeting of the Board will be held at the offices of the Farm Credit Administration in McLean, Virginia, on September 10, 2015, from 9:00 a.m. until such time as the Board concludes its business.

FOR FURTHER INFORMATION CONTACT: Dale L. Aultman, Secretary to the Farm Credit Administration Board, (703) 883-4009, TTY (703) 883-4056.

ADDRESSES: Farm Credit Administration, 1501 Farm Credit Drive, McLean, Virginia 22102-5090. Submit attendance requests via email to VisitorRequest@FCA.gov. See SUPPLEMENTARY INFORMATION for further information about attendance requests.

SUPPLEMENTARY INFORMATION: Parts of this meeting of the Board will be open to the public (limited space available), and parts will be closed to the public. Please send an email to VisitorRequest@FCA.gov at least 24 hours before the meeting. In your email include: name, postal address, entity you are representing (if applicable), and telephone number. You will receive an email confirmation from us. Please be prepared to show a photo identification when you arrive. If you need assistance for accessibility reasons, or if you have any questions, contact Dale L. Aultman, Secretary to the Farm Credit Administration Board, at (703) 883-4009. The matters to be considered at the meeting are:

Open Session

A. Approval of Minutes

• August 13, 2015

B. New Business

• Fall 2015 Abstract of the Unified Agenda of Federal Regulatory and Deregulatory Actions and Fall 2015 Regulatory Projects Plan

• Quarterly Report on Economic Conditions and FCS Conditions

Closed Session*

• Office of Examination Quarterly Report

Dated: September 1, 2015.
Dale L. Aultman,
Secretary, Farm Credit Administration Board.

* Session Closed—Exempt pursuant to 5 U.S.C. Section 552b(c)(8) and (9).

[FR Doc. 2015-22548 Filed 9-2-15; 4:15 pm]

BILLING CODE 6705-01-P